ENVIRONMENTAL PROTECTION AGENCY

40 CFR Part 141

[OW-2003-0067; FRL-7805-6]

RIN 2040-AE62

Withdrawal of Direct Final Rule; National Primary Drinking Water Regulations: Analytical Method for Uranium

AGENCY: Environmental Protection Agency (EPA).

ACTION: Withdrawal of direct final rule.

SUMMARY: EPA published a direct final rule on June 2, 2004 (69 FR 31008), concerning three additional analytical methods for compliance determinations of uranium in drinking water. EPA stated in the direct final rule that if the Agency received adverse comment by July 2, 2004, EPA would publish a timely notice of withdrawal in the Federal Register. We subsequently received a somewhat ambiguous comment letter. EPA will address the comments in that letter in a final action based on the parallel proposal also published on June 2, 2004 (69 FR 31068). As stated in the parallel proposal, we will not institute a second comment period on this action.

DATES: As of August 25, 2004, EPA withdraws the direct final rule published at 69 FR 31008 on June 2, 2004.

FOR FURTHER INFORMATION CONTACT: General Information—Lisa Christ, Office of Ground Water and Drinking Water, Mail Code: 4606M, Environmental Protection Agency, 1200 Pennsylvania Ave., NW., Washington, DC 20460; telephone number: (202) 564-8354; e-mail address: christ.lisa@epa.gov. Technical information—David Huber, Office of Ground Water and Drinking Water, Mail Code: 4606M, Environmental Protection Agency, 1200 Pennsylvania Ave., NW., Washington, DC 20460; telephone number: (202) 564-4878; e-mail address: huber.david@epa.gov.

SUPPLEMENTARY INFORMATION: EPA published the direct final rule and companion proposed rule for approval of the use of three additional analytical methods for compliance determinations of uranium in drinking water in the Federal Register on June 2, 2004 (69 FR 31008 and 31068). In the companion proposal, EPA proposed the approval of three methods that use an inductively coupled plasma mass spectrometry (ICP-MS) technology. Specifically, EPA proposed the approval of ICP-MS methods published by EPA, ASTM International, and the Standard Methods Committee (EPA 200.8, ASTM D5673-03, and SM 3125) for compliance determinations of uranium in drinking water. The proposed approval of the three ICP-MS methods did not affect approval of the 15 methods currently specified at 40 CFR 141.25(a) for compliance determinations of uranium.

In the companion proposed rule (69 FR 31068) section of the June 2, 2004, EPA invited comment on the substance of the direct final rule and stated that if adverse comments were received by July 2, 2004, the direct final rule would not become effective and a notice would be published in the Federal Register to withdraw the direct final rule before the August 31, 2004, effective date. The EPA subsequently received comment on the proposed rule.

List of Subjects for 40 CFR Part 141

Environmental protection, Chemicals, Incorporation by reference, Indians-lands, Intergovernmental relations, Radiation protection, Reporting and recordkeeping requirements, Water supply.

Dated: August 5, 2004.
Benjamin H. Grumbles,
Acting Assistant Administrator, Office of Water.

[FR Doc. 04-19334 Filed 8-24-04; 8:45 am]

BILLING CODE 6560-50-P